DEPARTMENT OF COMMERCE

International Trade Administration

Corporation for Travel Promotion Board of Directors

AGENCY: International Trade Administration, U.S. Department of Commerce.

ACTION: Notice of opportunity.

SUMMARY: The Department of Commerce is currently seeking applications from travel and tourism leaders from specific industries for membership on the Board of Directors (Board) of the Corporation for Travel Promotion (doing business as Brand USA). The purpose of the Board is to guide the Corporation for Travel Promotion on matters relating to the promotion of the United States as a travel destination and communication of travel facilitation issues, among other tasks. This is the third notice of an opportunity for travel and tourism industry leaders to apply for membership on the Board of Directors of the Corporation for Travel Promotion. Previous notices for this opportunity were published on Friday, July 19, 2019 and Thursday, September 12, 2019. This Federal Register Notice also adds a fifth sector as the Department is now also seeking a leader with state tourism office experience.

DATES: All applications must be received by the National Travel and Tourism Office by close of business on Wednesday, December 11, 2019. Applicants who applied in response to the previously published Federal Register Notices (84 FR 34862, 48104) do not need to re-apply.

ADDRESSES: Please submit application information by email to CTPBoard@trade.gov.

FOR FURTHER INFORMATION CONTACT: Julie Heizer, National Travel and Tourism Office, U.S. Department of Commerce, 1401 Constitution Avenue NW, MS10003, Washington, DC 20230; telephone: 202-482-0140; email: CTPBoard@trade.gov.

SUPPLEMENTARY INFORMATION: The Travel Promotion Act of 2009 (TPA) was signed into law on March 4, 2010 and was amended in July 2010 and December 2014. The TPA established the Corporation for Travel Promotion (the Corporation) as a non-profit corporation charged with the development and execution of a plan to (A) provide useful information to those interested in traveling to the United States; (B) identify and address misperceptions regarding U.S. entry policies; (C) maximize economic and diplomatic benefits of travel to the United States through the use of various promotional tools; (D) ensure that international travel benefits all States and the District of Columbia; (E) identify opportunities to promote tourism to rural and urban areas equally, including areas not traditionally visited by international travelers; and (F) give priority to countries and populations most likely to travel to the United States.

The Corporation is governed by a Board of Directors, consisting of 11 members with knowledge of international travel promotion or marketing, broadly representing various regions of the United States. The TPA directs the Secretary of Commerce (after consultation with the Secretary of Homeland Security and the Secretary of State) to appoint the Board of Directors for the Corporation.

At this time, the Secretary will be selecting five individuals with the appropriate expertise and experience from specific sectors of the travel and tourism industry to serve on the Board as follows:

(A) One (1) shall have appropriate expertise and experience in the attractions or recreations sector;

(B) One (1) shall have appropriate expertise and experience in immigration law and policy, including visa requirements and United States entry procedures;

(C) One (1) shall have appropriate expertise and experience in the land or sea passenger transportation sector;

(D) One (1) shall have appropriate expertise and experience in the passenger air sector; and

(E) One (1) shall have appropriate expertise and experience as an official of a State tourism office.

To be eligible for Board membership, individuals must have knowledge of international travel promotion or marketing, be a current or former chief executive officer, chief financial officer, or chief marketing officer or have held an equivalent management position. Additional consideration will be given to individuals who have experience working in U.S. multinational entities with marketing budgets, and/or who are audit committee financial experts as defined by the Securities and Exchange Commission (in accordance with 15 U.S.C. 7265). Individuals must be U.S. citizens, and in addition, cannot be federally registered lobbyists or registered as a foreign agent under the Foreign Agents Registration Act of 1938, as amended.

Those selected for the Board must be able to meet the time and effort commitments of the Board.

Board members serve at the discretion of the Secretary of Commerce (who may remove any member of the Board for good cause). The term of office for the member of the Board having appropriate expertise and experience as an official of a State tourism office shall be two (2) years, as this individual will be appointed by the Secretary to fill a vacancy occurring prior to the expiration term for which that member's predecessor was appointed. The terms of office for the other members of the Board appointed by the Secretary shall be three (3) years. Board members can serve a maximum of two consecutive full three-year terms. Board members are not considered Federal government employees by virtue of their service as a member of the Board and will receive no compensation from the Federal government for their participation in Board activities. Members participating in Board meetings and events may be paid actual travel expenses and per diem by the Corporation when away from their usual places of residence.

Individuals who want to be considered for appointment to the Board should submit the following information by the Wednesday, December 11, 2019 deadline to the address listed in the ADDRESSES section above:

1. Name, title, and personal resume of the individual requesting consideration, including address, email address and phone number.

2. A brief statement of why the person should be considered for appointment to the Board. This statement should also address the individual's relevant international travel and tourism marketing experience and audit committee financial expertise, if any, and indicate clearly the sector or sectors enumerated above in which the individual has the requisite expertise and experience. Individuals who have the requisite expertise and experience in more than one sector can be appointed for only one of those sectors. Appointments of members to the Board will be made by the Secretary of Commerce.

3. An affirmative statement that the applicant is a U.S. citizen, is not a federally-registered lobbyist and further, is not required to register as a foreign agent under the Foreign Agents Registration Act of 1938, as amended.

4. If applicable, a statement acknowledging that the applicant is an audit committee financial expert as defined by the Securities and Exchange Commission (in accordance with 15 U.S.C. 7265).

Dated: November 16, 2019.
Julie Heizer,
Deputy Director, National Travel and Tourism Office.

[FR Doc. 2019-26012 Filed 11-29-19; 8:45 am]

BILLING CODE 3510-DR-P